DEPARTMENT OF ENERGY

Federal Energy Regulatory Commission

[Docket No. EL00-67-000]

Strategic Power Management, Inc., Complianant, v. New York Independent System Operator, Respondent; Notice of Filing

May 31, 2000.

Take notice that on May 10, 2000, Strategic Power Management, Inc. (SPM) filed a supplement to its Complaint filed on April 20, 2000 pursuant to Section 206 of the Federal Energy Regulatory Commission's (Commission) Regulations, 18 CFR 385.206 and Section 206 of the Federal Power Act.

Any person desiring to be heard or to protect this filing should file a motion to intervene or protest with the Federal Energy Regulatory Commission, 888 First Street, N.W., Washington, D.C. 20426, in accordance with Rules 211 and 214 of the Commission's Rules of Practice and Procedure (18 CFR 385.211 and 385.214). All such motions or protests must be filed on or before June 12, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the supplement to the compliant shall also be due on or before June 12, 2000.

David P. Boergers,
Secretary.

[FR Doc. 00-14119 Filed 6-5-00; 8:45 am]

BILLING CODE 6717-01-M